DEPARTMENT OF HEALTH AND HUMAN SERVICES

National Institutes of Health

Submission for OMB Review; Comment Requested; National Survey of Nonhuman Primate Research Use

SUMMARY: Under the provisions of section 3507(a)(1)(D) of the Paperwork Reduction Act of 1995, the National Center for Research Resources (NCRR), the National Institutes of Health (NIH) has submitted to the Office of Management and Budget (OMB) a request for review and approval of the information collection listed below. This proposed information collection was previously published in the Federal Register on September 12, 2000, page 55031 and allowed 60-days for public comment. One comment was received from the public. The comment did not address issues with questions in the proposed survey, but expressed dislike of some of the concepts and terminology associated with animal research. No changes were required or made to the survey because of this response. The purpose of this notice is to allow an additional 30 days for public comment. The National Institutes of Health may not conduct or sponsor, and the respondent is not required to respond to, an information collection that has been extended, revised, or implemented on or after October 1, 1995, unless it displays a currently valid OMB control number.

Proposed Collection: Title: National Survey of Nonhuman Primate Research Use. Type of Information Collection Request: New. Need and Use of Information Collection: The National Center for Research Resources (NCRR) seeks to evaluate the support that it provides investigators for scientific research involving nonhuman primates. NCRR wants to ensure that the NIH support structure for nonhuman primate research permits all investigators with meritorious research proposals to have access to scarce animal and specimen resources. NCRR will collect information using an Internet survey. The online survey will be implemented using SSL (Secure Socket Layer) encryption technology and password access. NCRR will use first-class mail and e-mail messages to advise investigators that they have been selected to participate in the survey. Frequency of Response: One time survey. Affected Public: Not-for-profit institutions. Type of Respondents: NIH-supported investigators. The annual reporting burden is as follows: Estimated Number of Respondents: 878; Estimated Number of Responses per Respondent: 1; Estimated Burden Hours Per Response: .30; Estimated Total Annual Burden Hours: 439; The annualized cost to respondents is estimated at $178,588. There are no Capital Cost, Operating Cost and/or Maintenance Costs to report.

Requests for Comments: Written comments and/or suggestions from the public and affected agencies are invited on one or more of the following points: (1) Whether the proposed collection of information is necessary for the proper performance of the functions of the agency, including whether the information shall have practical utility; (2) The accuracy of the agency's estimate of the burden (including hours and cost) of the proposed information collection; (3) Ways to enhance the quality, utility, and clarity of the information to be collected; and (4) Ways to minimize the burden of the collection of information on respondents, including through the use of automated collection techniques or other forms of information technology.

Direct Comments to OMB: Written comments and/or suggestions regarding the item(s) contained in this notice, especially regarding the estimated public burden and associated response time, should be directed to the: Office of Management and Budget, Office of Regulatory Affairs, New Executive Office Building, Room 10235, Washington, DC 20503, Attention: Desk Officer for NIH. To request more information on the proposed project or to obtain a copy of the data collection plans and instruments, contact: Patricia Newman, Program Analyst, NCRR Office of Science Policy and Public Liaison, 6705 Rockledge Drive, Suite 5046, Bethesda, MD 20892-7965, or call non-toll-free number (301) 435-0866 or E-mail your request, including your address to: PattyV@ncrr.nih.gov

Comments Due Date: Comments regarding this information collection are best assured of having their full effect if received on or before March 26, 2001.

Dated: February 16, 2001.
Louise E. Ramm,
Deputy Director, NCRR.

[FR Doc. 01-4457 Filed 2-22-01; 8:45 am]

BILLING CODE 4140-01-M